DEPARTMENT OF TRANSPORTATION

Federal Aviation Administration

14 CFR Part 39

[Docket No. FAA-2012-0111; Directorate Identifier 2011-NM-089-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A330-200, A330-300, A340-200, and A340-300 series airplanes; and Model A340-541 airplanes and Model A340-642 airplanes. That NPRM proposed to require performing a detailed inspection for degradation of the bogie pivot pins and for any cracks and damage of the pivot pin bushes of the main and central landing gear; a magnetic particle inspection of the affected bogie pivot pins for corrosion and base metal cracks; and repairing or replacing bogie pivot pins and pivot pin bushes, if necessary. That NPRM was prompted by reports of cracks in the bogie pivot pin caused by material heating due to friction between the bogie pivot pin and bush, leading to chrome detachment and chrome dragging on the bogie pivot pin. This action revises that NPRM by adding repetitive inspections and expanding the applicability. We are proposing this AD to detect and correct cracks and damage to the main and central landing gear, which could result in the collapse of the landing gear and adversely affect the airplane's continued safe flight and landing. Since these actions impose an additional burden over that proposed in the NPRM, we are reopening the comment period to allow the public the chance to comment on these proposed changes.

DATES: We must receive comments on this proposed AD by October 22, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0111; Directorate Identifier 2011-NM-089-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on February 10, 2012 (77 FR 7007). That earlier NPRM proposed to require actions intended to address the unsafe condition for the products listed above.

Since that NPRM (77 FR 7007, February 10, 2012) was issued, we have determined that repetitive inspections of the bogie pivot pin are necessary to address the identified unsafe condition, and we have expanded the applicability to include all Airbus Model A330-200, A330-200 Freighter, A330-300, A340-200, and A340-300 series airplanes; and Model A340-541 and Model A340-642 airplanes.

The European Aviation Safety Agency (EASA), which is the Technical Agent for the Member States of the European Community, has issued EASA Airworthiness Directive 2012-0053, dated March 30, 2012 (referred to after this as “the MCAI”), to correct an unsafe condition for the specified products. The MCAI states:

During removals of A330/340 Main Landing Gear (MLG) Bogie Beams and A340-500/600 Center Landing Gear (CLG) Bogie Beams, cracks in the bogie pivot pin were found.

Investigations indicated that these findings were the result of material heating, caused by friction between bogie pivot pin and bush, leading to chrome detachment and stress corrosion cracking.

This condition, if not detected and corrected, could lead to collapse of the main or center landing gear, possibly resulting in damage to the aeroplane and/or injury to occupants.

As a precautionary measure, EASA issued AD 2011-0040 to require a one-time [detailed] inspection of the MLG (all types of A330 and A340 aeroplanes) and CLG (A340-500/600 aeroplanes only) to detect degradation or cracking of the bogie pivot pin [and to detect cracks and damage of the bushes], as applicable to aeroplane model, and the reporting of inspections results.

Following issuance of EASA AD 2011-0040, several operators reported finding chrome detachment or chrome dragging on bogie pivot pin. New cases of cracks were also reported. It has been confirmed as well that, due to similar design, the enhanced MLG bogie pivot pin (Airbus modification 54500) could also be affected by this condition.

Prompted by these findings, Airbus have developed an inspection programme consisting of repetitive inspections of the bogie pivot pin and applicable corrective actions.

For the reasons described above, this [EASA] AD, which supersedes EASA AD 2011-0040 and extends the applicability to all A330 and A340 aeroplanes, requires accomplishment of repetitive inspections of the MLG and CLG (for A340-500 and A340-600 aeroplanes) bogie pivot pins and pivot pin bushes, and corrective actions, depending on findings.

Required actions also include, for certain airplanes, a magnetic particle inspection of the bogie pivot pin for corrosion and base metal cracks. The corrective actions include replacing any cracked or damaged pivot pin bush with a new or serviceable pivot pin bush, and replacing any corroded or cracked bogie pin with a new bogie pin. You may obtain further information by examining the MCAI in the AD docket.

Relevant Service Information

Airbus has issued the following service bulletins:

• Airbus Mandatory Service Bulletin A330-32-3240, Revision 02, including Appendices 01 and 02, dated December 2, 2011 (for Model A330-200 series airplanes, Model A330-200 Freighter series airplanes, and Model A330-300 series airplanes).

• Airbus Mandatory Service Bulletin A340-32-4281, Revision 01, including Appendices 01 and 02, dated December 2, 2011 (for Model A340-200 series airplanes and Model A340-300 series airplanes).

• Airbus Mandatory Service Bulletin A340-32-5096, Revision 01, including Appendices 01 and 02, dated December 2, 2011 (for Model A340-541 airplanes and Model A340-642 airplanes).

The actions described in this service information are intended to correct the unsafe condition identified in the MCAI.

Comments

We gave the public the opportunity to comment on the original NPRM (77 FR 7007, February 10, 2012). We received no comments on that NPRM or on the determination of the cost to the public.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM (77 FR 7007, February 10, 2012). As a result, we have determined that it is necessary to reopen the comment period to provide additional opportunity for the public to comment on this proposed AD.

Costs of Compliance

Based on the service information, we estimate that this proposed AD would affect about 29 products of U.S. registry. We also estimate that it would take about 22 work-hours per product to comply with the basic requirements of this proposed AD. The average labor rate is $85 per work-hour. Based on these figures, we estimate the cost of the proposed AD on U.S. operators to be $54,230, or $1,870 per product.

In addition, we estimate that any necessary follow-on actions would take about 6 work-hours and require parts costing $21,222, for a cost of $21,732 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0111; Directorate Identifier 2011-NM-089-AD.

(a) Comments Due Date

We must receive comments by October 22, 2012.

(b) Affected ADs

None.

(c) Applicability

This AD applies to Airbus Model A330-201, -202, -203, -223, -243, -223F, -243F, -301, -302, -303, -321, -322, -323, -341, -342, and -343 airplanes; Model A340-211, -212, -213, -311, -312, and -313 airplanes; and Model A340-541 and Model A340-642 airplanes; certificated in any category; all manufacturer serial numbers.

(d) Subject

Air Transport Association (ATA) of America Code 32, Landing gear.

(e) Reason

This AD was prompted by reports of cracks in the bogie pivot pin caused by material heating due to friction between the bogie pivot pin and bush, leading to chrome detachment and chrome dragging on the bogie pivot pin. We are issuing this AD to detect and correct cracks and damage to the main and central landing gear, which could result in the collapse of the landing gear and adversely affect the airplane's continued safe flight and landing.

(f) Compliance

You are responsible for having the actions required by this AD performed within the compliance times specified, unless the actions have already been done.

(g) Detailed Inspection

Within 26 months after the effective date of this AD or 26 months after the first flight of the airplane, whichever occurs later; but no earlier than 12 months after the first flight of the airplane: Do a detailed inspection for degradation (i.e., loss of chromium plate, loose chromium, sharp edges) of the bogie pivot pins and for any cracks and damage of the pivot pin bushes of the main landing gear, and as applicable, the central landing gear, in accordance with the Accomplishment Instructions of the applicable service bulletin specified in paragraph (g)(1), (g)(2), or (g)(3) of this AD. Repeat the inspection thereafter at intervals not to exceed 26 months. Accomplishment of an overhaul of the landing gear does not substitute the accomplishment of the inspection as required by this paragraph.

(1) Airbus Mandatory Service Bulletin A330-32-3240, Revision 02, including Appendices 01 and 02, dated December 2, 2011 (for Model A330-200 series airplanes, Model A330-200 Freighter series airplanes, and Model A330-300 series airplanes).

(2) Airbus Mandatory Service Bulletin A340-32-4281, Revision 01, including Appendices 01 and 02, dated December 2, 2011 (for Model A340-200 series airplanes and Model A340-300 series airplanes).

(3) Airbus Mandatory Service Bulletin A340-32-5096, Revision 01, including Appendices 01 and 02, dated December 2, 2011 (for Model A340-541 airplanes and Model A340-642 airplanes).

(h) Corrective Action if any Pivot Pin Bush is Found Cracked or Damaged

If, during any inspection required by paragraph (g) of this AD, any pivot pin bush is found cracked or damaged: Before further flight, repair or replace the pivot pin bush with a new or serviceable pivot pin bush, in accordance with the Accomplishment Instructions of the applicable service bulletin specified paragraph (h)(1), (h)(2), or (h)(3) of this AD.

(1) Airbus Mandatory Service Bulletin A330-32-3240, Revision 02, including Appendices 01 and 02, dated December 2, 2011 (for Model A330-200 series airplanes, Model A330-200 Freighter series airplanes, and Model A330-300 series airplanes).

(2) Airbus Mandatory Service Bulletin A340-32-4281, Revision 01, including Appendices 01 and 02, dated December 2, 2011 (for Model A340-200 series airplanes and Model A340-300 series airplanes).

(3) Airbus Mandatory Service Bulletin A340-32-5096, Revision 01, including Appendices 01 and 02, dated December 2, 2011 (for Model A340-541 airplanes and Model A340-642 airplanes).

(i) Corrective Action if Any Bogie Pivot Pin is Found With Degraded Chrome Plating

If, during any inspection required by paragraph (g) of this AD, degraded chrome plating on any bogie pivot pin is found: Before further flight, do a non-destructive test (magnetic particle inspection) of the affected bogie pivot pin for corrosion and base metal cracks, in accordance with the Accomplishment Instructions of the applicable service bulletin specified paragraph (i)(1), (i)(2), or (i)(3) of this AD.

(1) Airbus Mandatory Service Bulletin A330-32-3240, Revision 02, including Appendices 01 and 02, dated December 2, 2011 (for Model A330-200 series airplanes, Model A330-200 Freighter series airplanes, and Model A330-300 series airplanes).

(2) Airbus Mandatory Service Bulletin A340-32-4281, Revision 01, including Appendices 01 and 02, dated December 2, 2011 (for Model A340-200 series airplanes and Model A340-300 series airplanes).

(3) Airbus Mandatory Service Bulletin A340-32-5096, Revision 01, including Appendices 01 and 02, dated December 2, 2011 (for Model A340-541 airplanes and Model A340-642 airplanes).

(j) Corrective Action if Any Bogie Pivot Pin Is Found Corroded or the Base Metal Is Found Cracked During the Non-Destructive Test

If, during the non-destructive test (magnetic particle inspection) specified in paragraph (i) of this AD, the bogie pivot pin is found corroded or the base metal is cracked: Before further flight, repair or replace the bogie pin with a new or serviceable bogie pin, in accordance with the Accomplishment Instructions of the applicable service bulletin specified paragraph (j)(1), (j)(2), or (j)(3) of this AD.

(1) Airbus Mandatory Service Bulletin A330-32-3240, Revision 02, including Appendices 01 and 02, dated December 2, 2011 (for Model A330-200 series airplanes, Model A330-200 Freighter series airplanes, and Model A330-300 series airplanes).

(2) Airbus Mandatory Service Bulletin A340-32-4281, Revision 01, including Appendices 01 and 02, dated December 2, 2011 (for Model A340-200 series airplanes and Model A340-300 series airplanes).

(3) Airbus Mandatory Service Bulletin A340-32-5096, Revision 01, including Appendices 01 and 02, dated December 2, 2011 (for Model A340-541 airplanes and Model A340-642 airplanes).

(k) No Terminating Action

Accomplishment of the corrective actions required by paragraphs (h) and (j) does not terminate the repetitive inspections in paragraph (g) of this AD.

(l) Reporting Requirement

Submit a one-time report of the findings (both positive and negative) of the inspections required by paragraphs (g) and (i) of this AD to Airbus, Customer Services Directorate, 1 Rond Point Maurice Bellonte, 31707 Blagnac Cedex France, ATTN: SDC32 Technical Data and Documentation Services; fax (+33) 5 61 93 28 06; email sb.reporting@airbus.com; at the applicable time specified in paragraph (l)(1) or (l)(2) of this AD. The report must include the inspection results and description of any discrepancies found.

(1) If the inspection was done on or after the effective date of this AD: Submit the report within 90 days after the inspection.

(2) If the inspection was done before the effective date of this AD: Submit the report within 90 days after the effective date of this AD.

(m) Credit for Previous Actions

This paragraph provides credit for the actions required by paragraphs (g) through (j) of this AD, if those actions were performed before the effective date of this AD using the service information specified in paragraphs (m)(1) through (m)(4) of this AD, which are not incorporated by reference in this AD.

(1) Airbus Mandatory Service Bulletin A330-32-3240, including Appendix 1, dated December 8, 2010 (for Model A330-200 series airplanes, Model A330-200 Freighter series airplanes, and Model A330-300 series airplanes).

(2) Airbus Mandatory Service Bulletin A330-32-3240, including Appendix 1, Revision 01, dated May 4, 2011 (for Model A330-200 series airplanes, Model A330-200 Freighter series airplanes, and Model A330-300 series airplanes).

(3) Airbus Mandatory Service Bulletin A340-32-4281, including Appendix 1, dated December 8, 2010 (for Airbus Model A340-200 series airplanes and Model A340-300 series airplanes).

(4) Airbus Mandatory Service Bulletin A340-32-5096, including Appendix 1, dated December 8, 2010 (for Model A340-541 airplanes and Model A340-642 airplanes).

(n) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(o) Related Information

(1) Refer to MCAI European Aviation Safety Agency Airworthiness Directive 2012-0053, dated March 30, 2012, and the service information specified in paragraphs (o)(1)(i) through (o)(1)(iii) of this AD, for related information.

(i) Airbus Mandatory Service Bulletin A330-32-3240, Revision 02, including Appendices 01 and 02, dated December 2, 2011 (for Model A330-200 series airplanes, Model A330-200 Freighter series airplanes, and Model A330-300 series airplanes).

(ii) Airbus Mandatory Service Bulletin A340-32-4281, Revision 01, including Appendices 01 and 02, dated December 2, 2011 (for Model A340-200 series airplanes and Model A340-300 series airplanes).

(iii) Airbus Mandatory Service Bulletin A340-32-5096, Revision 01, including Appendices 01 and 02, dated December 2, 2011 (for Model A340-541 airplanes and Model A340-642 airplanes).

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Issued in Renton, Washington, on August 31, 2012.
Ali Bahrami,
Manager, Transport Airplane Directorate, Aircraft Certification Service.

[FR Doc. 2012-22063 Filed 9-6-12; 8:45 am]

BILLING CODE 4910-13-P